DEPARTMENT OF AGRICULTURE

Natural Resources Conservation Service

Clarke County Water Supply Project, Clarke County, IA

AGENCY: Natural Resources Conservation Service.

ACTION: Notice of intent to prepare a revised Environmental Impact Statement.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture gives notice that a revised environmental impact statement is being prepared for the Clarke County Water Supply Project, Clarke County, Iowa.

FOR FURTHER INFORMATION CONTACT: Richard Sims, State Conservationist, or Marty Adkins, Assistant State Conservationist for Planning, 210 Walnut Street, Room 693, Des Moines, IA 50309-2180, telephone: 515-284-4769.

SUPPLEMENTARY INFORMATION: A Notice of Intent (NOI) to prepare the first Environmental Impact Statement (EIS) was published in the Federal Register on April 19, 2006. A combined draft Watershed Plan and Environmental Impact Statement (EIS) was completed in February 2009 and reviewed with local citizens on February 26, 2009, at the Clarke County Fairgrounds. The draft Plan and EIS was posted in the Federal Register on March 6, 2009, for public and interagency review. Comments were received until April 20, 2009.

During the consideration of public and interagency comments by NRCS information related to water supply demand requirements for permitting by the State was discovered. This information effectively lowered the water supply project target from 3.2 mgd to 2.2 mgd. This lowered target made the consideration of site 3.5 (in addition to site 4B) possible and required to meet Federal water resource planning requirements. An additional potential site (Site 5) was also identified for evaluation.

As a result of these findings, Richard Sims, NRCS State Conservationist, has determined that the preparation and review of a revised combined watershed plan and environmental impact statement (EIS) is needed for this project. The Army Corp of Engineers, United States Fish and Wildlife Service, Environmental Protection Agency and Iowa Department of Natural Resources have been formally requested to be cooperating agencies. Formal responses to these requests are pending.

This project involves the development of a plan for agricultural water management (rural water supply), public recreation, public fish and wildlife, and watershed protection near Osceola in southern Iowa. The Clarke County Water Supply project area is 18,360 acres. It is located northwest of Osceola from the headwaters of the Squaw Creek Watershed to the confluence of the South Squaw Creek Watershed.

An open house informational meeting was held in Osceola on December 1, 2004, to initiate the planning process and obtain public input. State and federal agencies, private organizations, and local individuals were invited to a scoping meeting on March 15, 2006. The public input received from these meetings and at meetings of the Clarke County Reservoir Commission was considered as the first draft Environmental Impact Statement was developed. The same scoping meeting information will be used for the revised combined watershed plan and environmental impact statement (EIS). The periodic meetings of the Commission as well as individual member sponsor meetings are open to the public and have provided opportunity for citizen input.

The revised draft EIS will evaluate three potential multiple-purpose structures that provide for rural water supply and water based recreational opportunities. Additionally, sediment basins that reduce agricultural pollutants to the lake will be evaluated.

The Clarke County Water Supply Watershed Project Revised Draft EIS will be developed and published in the Federal Register with a target date of June 1, 2010. A 45-day comment period will be available for the public to provide comments. A 30-day comment period will be available following publication of the final EIS. A meeting will be held in the Osceola area near the date of the revised draft EIS publication to inform the public about the revised draft watershed plan-EIS and to obtain comments. A notice will be published in the Federal Register with a specific date, time, and location of this meeting.

The revised draft watershed plan-EIS will be prepared and circulated for review by agencies and the public and a notice of the availability of the Draft EIS published in the Federal Register. The Natural Resources Conservation Service invites participation and consultation of public agencies, any affected Indian tribe, and individuals who have special expertise, legal jurisdiction, or interest in providing data for consideration in preparing the revised draft EIS. Comments and other input received will be considered in plan development. Further information on the proposed action may be obtained from Marty Adkins, Assistant State Conservationist for Planning, at the above address or telephone number.

This Federal Register Notice will also be available at the Iowa NRCS Web site at http://www.ia.nrcs.usda.gov. A map of the Clarke County Water Supply proposed study sites will also be posted.

Dated: May 4, 2010.
Richard Sims,
State Conservationist.

[FR Doc. 2010-11227 Filed 5-11-10; 8:45 am]

BILLING CODE 3410-16-P